DEPARTMENT OF THE INTERIOR

Geological Survey

[GX20DJ73GY14000; OMB Control Number 1028-NEW]

Agency Information Collection Activities; Submission to the Office of Management and Budget for Review and Approval; Local and Indigenous Knowledge of Permafrost Dynamics in the Yukon River Basin

AGENCY: Geological Survey, Interior.

ACTION: Notice of information collection; request for comment.

SUMMARY: In accordance with the Paperwork Reduction Act (PRA) of 1995, we, the U.S. Geological Survey (USGS) are proposing a new information collection.

DATES: Interested persons are invited to submit comments on or before May 2, 2022.

ADDRESSES: Written comments and recommendations for the proposed information collection should be sent within 30 days of publication of this notice to www.reginfo.gov/public/do/PRAMain. Find this particular information collection by selecting “Currently under 30-day Review—Open for Public Comments” or by using the search function. Comments may be submitted by mail to the U.S. Geological Survey, Information Collections Clearance Officer, 12201 Sunrise Valley Drive MS 159, Reston, VA 20192; and by email to gs-info_collections@usgs.gov. Please reference OMB Control Number 1028-NEW in the subject line of your comments.

FOR FURTHER INFORMATION CONTACT: To request additional information about this Information Collection Request (ICR,) contact Nicole Herman-Mercer by email at nhmercer@usgs.gov, or by telephone at 303-236-5031. You may also view the ICR at http://www.reginfo.gov/public/do/PRAMain. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on March 2, 2021, 86 FR, 12202. No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility.

(2) The accuracy of our estimate of the burden for this collection of information, including the validity of the methodology and assumptions used.

(3) Ways to enhance the quality, utility, and clarity of the information to be collected under this request; and

(4) How the agency might minimize the burden of the collection of this information on those being asked to respond, including through the use of appropriate automated, electronic, mechanical, or other technological collection techniques or other forms of information technology, e.g., permitting electronic submission of responses.

Comments that you submit in response to this notice are a matter of public record. Before including your address, phone number, email address, or other personally identifiable information (PII) in your comment, you should be aware that your entire comment—including your PII—may be made publicly available at any time. While you can ask us in your comment to withhold your PII from public review, we cannot guarantee that we will be able to do so.

Abstract: We will collect narrative information regarding knowledge and observations of permafrost dynamics in communities in the Yukon River Basin in Alaska. Narrative information will be collected via semi-structured interviews with active land users in specific communities as well as relevant city, tribal council, and village corporation staff. Questions will focus on observations of landscape change and infrastructure damage indicative of permafrost thaw. This information will allow for a greater understanding of permafrost dynamics in the region as well as the impacts that thaw has on communities. This information will be used to inform future permafrost monitoring efforts in the region, and it will be provided to communities for adaptation planning.

Title of Collection: Local and Indigenous Knowledge of Permafrost Dynamics across the Yukon River Basin.

OMB Control Number: 1028-NEW.

Form Number: None.

Type of Review: New.

Respondents/Affected Public: Individuals.

Total Estimated Number of Annual Respondents: 180.

Total Estimated Number of Annual Responses: 180.

Estimated Completion Time per Response: 45 minutes.

Total Estimated Number of Annual Burden Hours: 135.

Respondent's Obligation: Voluntary.

Frequency of Collection: One time.

Total Estimated Annual Non Hour Burden Cost: None.

An agency may not conduct or sponsor, and a person is not required to respond to, a collection of information unless it displays a currently valid OMB control number.

The authority for this action is the Paperwork Reduction Act of 1995 (44 U.S.C. 3501 et seq.).

Jennifer Rapp,
Chief, Decision Support Branch.

[FR Doc. 2022-06943 Filed 3-31-22; 8:45 am]

BILLING CODE 4338-11-P